DEPARTMENT OF TRANSPORTATION

Federal Aviation Administration

14 CFR Part 39

[Docket No. 99-NM-322-AD; Amendment 39-12765; AD 2002-11-04]

RIN 2120-AA64

Airworthiness Directives; Airbus Model A300 B4-600 and A300 B4-600R Series Airplanes, and Model A300 F4-605R Airplanes

AGENCY: Federal Aviation Administration, DOT.

ACTION: Final rule.

SUMMARY: This amendment supersedes an existing airworthiness directive (AD), applicable to all Airbus Model A300 B4-600, A300 B4-600R, and A300 F4-600R series airplanes (A300-600), that currently requires an inspection to detect cracks of certain attachment holes; and installation of new fasteners and follow-on inspections or repair if necessary. This amendment requires repetitive inspections to detect cracks of certain attachment holes, installation of new fasteners, follow-on inspections or repair if necessary, and modification of the angle fittings of frame FR47. This amendment revises the applicability of the existing AD. The actions specified by this AD are intended to prevent fatigue cracking of the forward fitting of fuselage frame FR47, which could result in reduced structural integrity of the frame.

DATES: Effective July 8, 2002.

The incorporation by reference of certain publications listed in the regulations is approved by the Director of the Federal Register as of July 8, 2002.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) by superseding AD 97-16-06, amendment 39-10097 (62 FR 44888, August 25, 1997), which is applicable to all Airbus Model A300 B4-600, A300 B4-600R, and A300 F4-600R series airplanes (A300-600), was published as a supplemental notice of proposed rulemaking (NPRM) in the Federal Register on November 19, 2001 (66 FR 57896). The supplemental NPRM proposed to require repetitive inspections to detect cracks of certain attachment holes, installation of new fasteners, follow-on inspections or repair if necessary, and modification of the angle fittings of frame FR47.

Comments

Interested persons have been afforded an opportunity to participate in the making of this amendment. Due consideration has been given to the comments received from the single commenter on the supplemental NPRM. The commenter generally supports the proposal.

Request To Allow Use of Alternative Fasteners

The commenter requests that the supplemental NPRM be revised to approve the use of alternative fasteners listed in the Airbus A300 Structural Repair Manual (SRM), Chapter 51-40-32 (“Fastener Alternative—Metallic Structure”). This would relieve operators of initiating, and the FAA of approving, requests for alternative methods of compliance to use fasteners not specified by the AD.

We do not concur with this request. Airbus Service Bulletin A300-57-6049, Revision 4, dated July 27, 2000, is cited in paragraph (a) of the supplemental NPRM (and this final rule) as the appropriate source of service information for the rotating probe inspection of the internal angles of the wing center box. In consonance with the parallel French airworthiness directive, this AD requires operators to follow the specifications of that service bulletin. SRM Chapter 51-40-32 is not listed as a reference in the service bulletin; therefore, this AD does not provide credit for the use of fasteners identified in that SRM chapter. However, under the provisions of paragraph (f)(1) of this final rule, as the commenter suggests, the FAA may approve requests to use alternative fasteners if data are submitted to substantiate that such alternative fasteners would provide an acceptable level of safety.

Operators should note that SRM Chapter 51-40-31, which is listed as a reference in Service Bulletin A300-57-6049, does allow different, oversized fasteners to be installed, which will provide operators some additional flexibility in accomplishing the requirements of this AD. Because SRM Chapter 51-40-31 is cited in the service bulletin, use of the fasteners identified in that chapter is implicitly allowed by this AD; therefore, no change to the final rule is necessary in this regard.

Coordination of Global Review

The commenter suggests that the FAA, Airbus, and the DGAC perform a global review of other areas of the A300-600 wing box area that are also subject to the inspection requirements of existing ADs. According to the commenter, reviewing the whole box section, instead of concentrating on one area at a time, may enhance safety of flight.

We recognize the potential value of a global approach in addressing multiple inspections of the same general area, and we will take the commenter's suggestion under advisement. However, in this case the identified unsafe condition is a more immediate concern that should be addressed in a unique AD. Coordinating a global review of related ADs would further delay issuance of this AD, which, in any event, is not the proper forum to address such a review. No change to the final rule is necessary in this regard.

Request To Revise Compliance Times

The commenter requests that a single threshold/interval be established for all of the inspections of the wing center section currently required by different ADs. These ADs have different inspection thresholds, and the required actions are labor-intensive. Coinciding compliance times would greatly reduce the downtime that would be required if the actions of each AD are performed separately.

We do not concur with the request. The compliance times and requirements of each related AD are based on the manufacturer's case-by-case analysis of each individual structural condition. Operators are responsible for scheduling the actions required for each applicable AD. No change to the final rule is necessary in this regard.

Conclusion

After careful review of the available data, including the comments noted above, the FAA has determined that air safety and the public interest require the adoption of the rule with the change described previously. The FAA has determined that this change will neither increase the economic burden on any operator nor increase the scope of the AD.

Interim Action

This is considered to be interim action. The manufacturer is currently developing procedures for an inspection of the repaired and reinforced area on those airplanes on which the actions of Service Bulletin A300-57-6069 have been accomplished. If the FAA finds these actions appropriate to address the unsafe condition identified by this AD, the FAA may consider further rulemaking once these inspection procedures are developed, approved, and available.

Cost Impact

The FAA estimates that 74 airplanes of U.S. registry will be affected by this AD. The average labor rate is $60 per work hour. The FAA provides cost estimates for the actions specified by this AD, as follows:

Action | Work hours | Parts cost | Per-airplane cost
Inspection per paragraph (a) | 7 or 13 (depending on configuration) | $0 | $420 or $780, per inspection.
Inspection per paragraph (b) | 30 | $6,637 or $19,091, depending on kit required | $8,437 or $20,891, per inspection.
Modification per paragraph (c) | 65 to 365 | $3,370 | $7,270 to $25,270.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10097 (62 FR 44888, August 25, 1997) and by adding a new airworthiness directive (AD), amendment 39-12765, to read as follows:

2002-11-04 Airbus Industrie: Amendment 39-12765. Docket 99-NM-322-AD. Supersedes AD 97-16-06, Amendment 39-10097.

Applicability: All Model A300 B4-600 and A300 B4-600R series airplanes, and all Model A300 F4-605R airplanes; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (f)(1) of this AD. The request should include an assessment of the effect of the modification, alteration, or repair on the unsafe condition addressed by this AD; and, if the unsafe condition has not been eliminated, the request should include specific proposed actions to address it.

Compliance: Required as indicated, unless accomplished previously.

To prevent fatigue cracking of the forward fitting of fuselage frame FR47, which could result in reduced structural integrity of the frame, accomplish the following:

Inspections

(a) Perform a rotating probe inspection to detect cracking of the applicable attachment holes on the left and right internal angles of the wing center box, in accordance with Airbus Service Bulletin A300-57-6049, Revision 4, dated July 27, 2000. Do the inspection at the applicable time specified by paragraph 1.A.(2), Planning Information, of the service bulletin, except as required by paragraph (e) of this AD. Repeat the inspection thereafter at intervals not to exceed the applicable interval specified in the service bulletin, except that all touch-and-go landings must be counted in determining the total number of flight cycles between consecutive inspections.

(1) If no cracking is found: Prior to further flight, install new fasteners in accordance with the service bulletin.

(2) If any cracking is found: Prior to further flight, perform applicable corrective actions (including reaming, drilling, drill-stopping holes, chamfering, performing follow-on inspections, and installing new or oversize fasteners) in accordance with the service bulletin, except as required by paragraph (d) of this AD.

(b) Perform a rotating probe inspection to detect cracking of the applicable attachment holes in the horizontal flange of the internal corner angle fitting of frame FR47, in accordance with Airbus Service Bulletin A300-57-6086, dated June 6, 2000. Do the inspection at the applicable time specified by the service bulletin, except as required by paragraph (e) of this AD. Repeat the inspection thereafter at intervals not to exceed the applicable interval specified in the service bulletin, except that all touch-and-go landings must be counted in determining the total number of flight cycles between consecutive inspections.

(1) If no cracking is detected: Prior to further flight, install new fasteners in accordance with the service bulletin.

(2) If any cracking is detected: Prior to further flight, perform applicable corrective actions (including inspecting hole T, reaming the holes, and installing oversize fasteners) in accordance with the service bulletin, except as required by paragraph (d) of this AD.

Modification

(c) Modify the left and right internal angle fittings of the wing center box. The modification includes performing a rotating probe inspection to detect cracking, repairing cracks, cold expanding holes, and installing medium interference fitting bolts. Perform the modification in accordance with and at the applicable time specified by paragraph 1.B.(4), Accomplishment Timescale, of Airbus Service Bulletin A300-57-6050, Revision 02, dated February 10, 2000; except as required by paragraphs (d) and (e) of this AD.

Note 2: Modification prior to the effective date of this AD in accordance with Airbus Service Bulletin A300-57-6050, dated September 9, 1994, or Revision 01, dated May 31, 1999, is acceptable for compliance with the requirements of paragraph (c) of this AD.

Exceptions to Specifications in Service Bulletins

(d) If any crack is detected during any inspection required by paragraph (b) or (c) of this AD, and the applicable service bulletin specifies to contact the manufacturer for disposition of certain corrective actions: Prior to further flight, repair in accordance with a method approved by either the Manager, International Branch, ANM-116, FAA, Transport Airplane Directorate, or the Direction Générale de l'Aviation Civile (DGAC) (or its delegated agent).

(e) Where the service bulletins specified in paragraphs (a), (b), and (c) of this AD specify a grace period relative to receipt of the service bulletin, this AD requires compliance within the applicable grace period following the effective date of this AD, if the threshold has been exceeded.

Alternative Methods of Compliance

(f)(1) An alternative method of compliance or adjustment of the compliance time that provides an acceptable level of safety may be used if approved by the Manager, International Branch, ANM-116. Operators shall submit their requests through an appropriate FAA Principal Maintenance Inspector, who may add comments and then send it to the Manager, International Branch, ANM-116.

(2) Alternative methods of compliance, approved previously in accordance with AD 97-16-06, amendment 39-10097, are approved as alternative methods of compliance with the applicable requirements of this AD.

Note 3: Information concerning the existence of approved alternative methods of compliance with this AD, if any, may be obtained from the International Branch, ANM-116.

Special Flight Permits

(g) Special flight permits may be issued in accordance with §§ 21.197 and 21.199 of the Federal Aviation Regulations (14 CFR 21.197 and 21.199) to operate the airplane to a location where the requirements of this AD can be accomplished.

Incorporation by Reference

(h) Except as required by paragraph (d) of this AD: The actions shall be done in accordance with Airbus Service Bulletin A300-57-6049, Revision 4, dated July 27, 2000; Airbus Service Bulletin A300-57-6086, dated June 6, 2000; and Airbus Service Bulletin A300-57-6050, Revision 02, dated February 10, 2000; as applicable. Revision 02 of Airbus Service Bulletin A300-57-6050 contains the following effective pages:

Page number | Revision level shown on page | Date shown on page
1, 4, 8, 9, 17-32, 41, 42, 57, 58, 61-63, 75, 77 | 02 | February 10, 2000.
2, 3, 5-7, 10-12, 33, 34, 37, 38, 47, 59, 60, 76 | 01 | May 31, 1999.
13-16, 35, 36, 39, 40, 43-46, 48-56, 64-74 | Original | September 9, 1994.

This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directive 2000-533-328(B), dated December 27, 2000.

Effective Date

(i) This amendment becomes effective on July 8, 2002.

Issued in Renton, Washington, on May 22, 2002.
Ali Bahrami,
Acting Manager, Transport Airplane Directorate, Aircraft Certification Service.

[FR Doc. 02-13422 Filed 5-31-02; 8:45 am]

BILLING CODE 4910-13-P